DEPARTMENT OF JUSTICE

National Institute of Corrections

Solicitation for a Cooperative Agreement: Green Corrections

AGENCY: National Institute of Corrections, Department of Justice.

ACTION: Solicitation for a cooperative agreement.

SUMMARY: The National Institute of Corrections (NIC) is soliciting proposals from organizations, groups, or individuals who would like to enter an 8-month cooperative agreement to write a 45-50 page white paper exploring implementation strategies to introduce and increase awareness of environmental and conservation efforts to the field of corrections.

The Research and Evaluation Division will use the information from the white paper to collaborate with other Institute divisions (Prisons, Jails, Community Corrections, and Transition and Workforce Development) in developing and implementing training and technical assistance opportunities. The final white paper will become available to the public domain.

DATES: Applications must be received by 4 p.m. EST on Thursday, June 19, 2009.

ADDRESSES: Mailed applications must be sent to Director, National Institute of Corrections, 320 First Street, NW., Room 5007, Washington, DC 20534. Applicants are encouraged to use Federal Express, UPS, or similar service to ensure delivery by the due date.

Hand delivered applications should be brought to 500 First Street, NW., Washington, DC 20534. At the front desk, call (202) 307-3106, extension 0 for pickup.

Faxed applications will not be accepted. Only electronic applications submitted via http://www.grants.gov will be accepted.

FOR FURTHER INFORMATION CONTACT: A copy of this announcement and the required application forms can be downloaded from the NIC Web site at http://www.nicic.gov/cooperativeagreements.

All technical or programmatic questions concerning this announcement should be directed to Sherry Carroll, Correctional Program Specialist, National Institute of Corrections. She can be reached by calling 1-800-995-6423 extension 0378 or by e-mail at scarroll@bop.gov.

SUPPLEMENTARY INFORMATION: Background: NIC's interest in this project is to contribute to the advancement of corrections by developing innovative solutions to raise the awareness of correctional administrators and to help them stay abreast of societal issues that are being raised in legislative, societal, and political forums. Additionally, NIC aims to inform correctional administrators of new legislation that has been brought before Congress addressing energy efficiency and renewable energy.

The Bureau of Justice Statistics found that per capita expenditure for each justice function increased between 1982 and 2003, with corrections having the largest per capita increase of 423% (BJS, 2003)—a growth rate higher than both law enforcement and the judiciary. With agencies competing for performance-based budgets, agencies must show they are operating effectively and efficiently.

This is the beginning of what could be a new generation of correctional facilities. Facilities may be required to enhance their infrastructures by implementing self-sustaining and environmentally friendly processes for day-to-day operations, or as backup plans during times of emergency. This also increases the potential for facilities to create green products and services that will reduce costs and improve green-collar job skills inside and outside of the facility. Reducing operational costs will allow more funding to be directed to programs designed to produce long-term, positive effects on offenders re-entering the community.

Correctional administrators have attempted to address workforce challenges by introducing skilled trades, vocational programs, apprenticeships, and college courses to offenders. Still, few job assignments are offered to offenders. Dr. Raquel Pinderhughes (2007) completed a study suggesting that there are barriers to employment for former offenders with low levels of education.

According to the American Solar Energy Society, jobs in renewable-energy and energy-efficiency industries could increase to 40 million by 2030 (MacMillian, 2008). It is believed that most firms are not prepared to handle the rapid growth of these types of jobs and will experience a shortage of qualified green-collar workers. There will also be a greater need for green-collar jobs as traditional blue-collar jobs have become less available and competition for them increases (Jones and Wyskida 2007).

New green-collar jobs require less licensing than some blue-collar jobs (Pinderhughes, 2007). This may increase the potential for former offenders to find gainful employment after their release. Green-collar skills are transferable and can change how institutions view job assignments in their facilities, prompting practitioners to create green collar jobs within the institution and develop green-collar job readiness training programs.

Prisons Industry work programs offer another avenue to create more environmental awareness through the services and products they produce. Prison Industries have the potential to create green-collar jobs, promote awareness through producing energy-efficient and environmentally friendly products, create new programs inside correctional facilities, and lower pollution and byproduct wastes.

Progress to date: There are a number of innovative and creative solutions being developed in mainstream society to improve environmental quality through energy alternatives, material reuse, and conservation. These include the use of windmills, solar panels, biofuels, composting, recycling metals, water and other materials, crop production, and the use of hybrid vehicles. Listed below are a few examples of environmental and conservation efforts.

Many correctional facilities are recycling aluminum cans, initiating bike recycling and repair programs, and engaging in facility composting. Prison industries are recycling computers and electronics, participating in E-scrap Programs in waste management, turning wood pallets into furniture, and recycling rubber for children's playgrounds.

Organizations such as Leadership in Energy and Environmental Design (LEED) have established nationally accepted benchmarks for the design, construction, and operation of high-performance green buildings. Dr. Pinderhughes conducted research in Berkeley, California, that documented an analysis of providing high quality jobs for men and women with barriers to employment with green-collar jobs (Pinderhughes, 2007).

California has three non-profit organizations—San Francisco Conservation Corp., Rising Sun Energy Center, and Solar Richmond that work to prepare men and women with barriers to employment to enter the labor market with green-collar jobs.

The San Francisco Sheriff's Department's Garden Project modeled for community change is an integrated, community-wide, systemic response to crime, high rates of recidivism, and unemployment. It is an intensive program where participants can learn horticulture skills and grow organic vegetables that they can share with senior citizens.

Rocky Mountain Institute is a nonprofit organization that fosters the efficient and restorative use of resources so that companies, governments, and organizations are more efficient, make more money, and do less harm to the environment.

Charlotte Correctional Institute, located in Punta Gorda, FL, has facilities onsite to provide drinking water and wastewater treatment. They also use reclaimed water for institutional laundry and all prison toilets.

Project Goal: Complete 45-50 page white paper on three topic areas: (1) Investigating green-collar job readiness programs; (2) strategies to make penal industry products and services more environmentally friendly and (3) strategies to build or transform agencies into self-sustaining facilities by addressing and including the following objectives:

Conduct a need assessment on the feasibility of green-collar jobs in correctional facilities. This assessment would include specific types of green-collar jobs with considerations to offender custody levels, gender, and special needs;

Research and identify new and existing job readiness training programs that may be or are delivered to prisoners;

Develop training strategies that may be delivered to staff such as job employment specialists and/or job coordinators and allow linkages for soon-to-be released offenders with employment services in the community;

Assess existing programs for environmental awareness (pollution) and green-collar job readiness training (heating and cooling, biofuels, etc.) in penal industries;

Identify new programs to increase green collar products and skills, i.e., recycling, production, machinery, etc., in penal industries;

Create an assessment/resource tool for administrators to consider in the areas of building environment, transportation, water, energy, and other natural resource materials;

Select a methodology that will determine and establish baseline data on prison and jail's energy, water, and resource use and pollution generation;

Introduce cost saving benefits of creating green protocols at facilities that can reduce associated costs focused on “zero waste,” i.e., agriculture, construction design/alterations, composting, recycling, energy efficiency, water allocation, etc.;

Determine strategies to build or transform agencies into self-sustaining facilities or for the partial implementation of elements for self-sustaining, environmentally friendly agencies (i.e., the use of solar panels, windmills, alternative sources of energy, etc.).

Proposal Preparation: The proposal must be no more than 12 pages and include a strategic plan detailing how the work will be organized and completed, project goals and objectives, methodologies, a list of involved persons and their roles, a budget, and the applicant's experience working with environmental issues. The proposal and the applicant's experience should address previously stated goals and objectives in this solicitation.

Required Expertise: It is highly desirable for the successful applicant to demonstrate experience in the following areas: Knowledge of green collar jobs; Knowledge of Leadership in Energy and Environmental Design (LEED) Standards; Knowledge of recycling, conservation and alternative sources of energy; Ability to assess, interpret, and summarize research in relevant fields; Ability to serve as a liaison with research experts connected to the project; Ability to translate concepts into appropriate documents and other forms of communication; Knowledge of correctional organization business practices; Skills in technical writing; Ability to provide professional editing services.

Document Preparation: For all awards in which a document will be a deliverable, the awardee must follow the Guidelines for Preparing and Submitting Manuscripts for Publication as found in the “General Guidelines for Cooperative Agreements” which will be included in the award package.

Application Requirements: The application should be concisely written, typed double-spaced and reference the “NIC Opportunity Number” and Title provided in this announcement. The application package must include OMB Standard Form 424, Application for Federal Assistance, a cover letter that identifies the audit agency responsible for the applicant's financial accounts as well as the audit period or fiscal year that the applicant operates under (e.g., July 1 through June 30), a program narrative responding to the requirements in this announcement, a description of the qualifications of the applicant(s), and an outline of projected costs. The following forms must also be included: OMB Standard Form 424A, Budget Information—Non Construction Programs, OMB Standard Form 424B, Assurances—Non Construction Programs (these forms are available at http://www.grants.gov), DOJ/NIC Certification Regarding Lobbying; Debarment, Suspension and Other Responsibility Matters; and Drug-Free Workplace Requirements (available at http://www.nicic.org/Downloads/PDF/certif-frm.pdf.) Please limit the program narrative text to 12 double-spaced pages, exclusive of resumes and summaries of experience. Please do not submit full curriculum vitae.

Additional Resources: Go to http://www.nicic.gov.

Authority: Public Law 93-415.

Funds Available: NIC is seeking applicants' best ideas regarding accomplishment of the scope of work and the related costs for achieving the goals of this solicitation. Funds may be used only for the activities that are linked to the desired outcome of the project.

This project will be a collaborative venture with the NIC Research and Evaluation Division.

Eligibility of Applicants: An eligible applicant is any public or private agency, educational institution, organization, individual, or team with expertise in the described areas.

Review Considerations: Applications received under this announcement will be subjected to a 3 to 5 person NIC Review Process. The criteria for the evaluation of each application will be as follows:

Programmatic (60%)

Are all of the tasks adequately discussed? Is there a clear statement of how each task will be accomplished, including the staffing, resources, and strategies to be employed? Are there any innovative approaches, techniques, or design aspects proposed that will enhance the project?

Organizational (20%)

Do the skills, knowledge, and expertise of the organization and the proposed project staff demonstrate a high level of competency to carry out the tasks? Does the applicant organization have the necessary experience and organizational capacity to carry out all goals of the project? Are the proposed project management and staffing plans realistic and sufficient to complete the project within the 8-month time frame?

Project Management/Administration (20%)

Does the applicant identify reasonable objectives, milestones, and measures to track progress? If consultants and/or partnerships are proposed, is there a reasonable justification for their inclusion in the project and a clear structure to insure effective coordination? Is the proposed budget realistic and provide sufficient cost detail/narrative, and represent good value relative to the anticipated results?

Note: NIC will not award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and worksheet can also be reviewed at the Web site.

Number of Awards: One.

NIC Opportunity Number: 09PEI27. This number should appear as a reference line in the cover letter, where indicated on Standard Form 424, and outside of the envelope in which the application is sent.

Catalog of Federal Domestic Assistance Number: 16.602.

Executive Order 12372: This program is not subject to the provisions of Executive Order 12372.

Morris L. Thigpen,
Director, National Institute of Corrections.

[FR Doc. E9-11964 Filed 5-21-09; 8:45 am]

BILLING CODE 4410-36-P